SMALL BUSINESS ADMINISTRATION

[Disaster Declaration #10437 and #10438]

Illinois Disaster #IL-00003

AGENCY: U.S. Small Business Administration.

ACTION: Notice.

SUMMARY: This is a Notice of the Presidential declaration of a major disaster for the State of ILLINOIS (FEMA-1633-DR), dated March 28, 2006.

Incident: Tornadoes and Severe Storms.

Incident Period: March 11, 2006 through March 13, 2006.

Effective Date: March 28, 2006.

Physical Loan Application Deadline Date: May 30, 2006.

Economic Injury (EIDL) Loan Application Deadline Date: December 28, 2006.

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on March 28, 2006, applications for disaster loans may be filed at the address listed above or other locally announced locations.

The following areas have been determined to be adversely affected by the disaster:

Primary Counties (Physical Damage and Economic Injury Loans):

Sangamon.

Contiguous Counties (Economic Injury Loans Only): Illinois:

Cass, Christian, Logan, Macon, Macoupin, Menard, Montgomery, Morgan.

The Interest Rates are:

| Percent
For Physical Damage
Homeowners with Credit Available Elsewhere: | 5.750.
Homeowners without Credit Available Elsewhere: | 2.875.
Businesses with Credit Available Elsewhere: | 7.408.
Businesses and Non-Profit Organizations without Credit Available Elsewhere: | 4.000.
Other (Including Non-Profit Organizations) with Credit Available Elsewhere: | 5.000.
For Economic Injury
Businesses & Small Agricultural Cooperatives Without Credit Available Elsewhere: | 4.000.

The number assigned to this disaster for physical damage is 10437 C and for economic injury is 10438 0.

(Catalog of Federal Domestic Assistance Numbers 59002 and 59008).

Herbert L. Mitchell,
Associate Administrator for Disaster Assistance.

[FR Doc. E6-4908 Filed 4-4-06; 8:45 am]

BILLING CODE 8025-01-P